NUCLEAR REGULATORY COMMISSION

[Docket No. 50-389; NRC-2015-0235]

Florida Power & Light Company; St. Lucie Plant, Unit No. 2

AGENCY: Nuclear Regulatory Commission.

ACTION: Director's decision under 10 CFR 2.206; issuance.

SUMMARY: The U.S. Nuclear Regulatory Commission (NRC or the Commission) has issued a director's decision with regard to a petition dated March 10, 2014, as supplemented, filed by the Southern Alliance for Clean Energy (SACE, the petitioner), requesting that the NRC take action with regard to St. Lucie Plant, Unit No. 2 (SL-2). The petitioner's requests and the director's decision are included in the SUPPLEMENTARY INFORMATION section of this document.

ADDRESSES: Please refer to Docket ID NRC-2015-0235 when contacting the NRC about the availability of information regarding this document. You may obtain publicly-available information related to this document using any of the following methods:

• Federal Rulemaking Web site: Go to http://www.regulations.gov and search for Docket ID NRC-2015-0235. Address questions about NRC dockets to Carol Gallagher; telephone: 301-415-3463; email: Carol.Gallagher@nrc.gov.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

SUPPLEMENTARY INFORMATION: Notice is hereby given that the Director, Office of Nuclear Reactor Regulation, has issued director's decision DD-16-02 (ADAMS Accession No. ML16167A086) on a petition filed by the petitioner on March 10, 2014 (ADAMS Accession No. ML14071A431), as supplemented.¹

¹ Supplements (ADAMS Accession Nos. ML14115A457, ML14115A458, ML14125A514, ML14128A557, ML14143A412, ML14147A523, ML14310A811, and ML14337A792).

The petitioner requested a hearing on what the petitioner characterized as a de facto license amendment for the replacement of the steam generators (SGs) in 2007 at SL-2, under § 50.59 of title 10 of the Code of Federal Regulations (10 CFR), “Changes, tests and experiments.” SACE requested that the NRC revoke the de facto license amendment and stay the restart of SL-2 from the March 3, 2014, refueling outage pending resolution of the hearing request. As the basis for this request, the petitioner stated that Florida Power & Light Company (the licensee) misapplied 10 CFR 50.59 and that the SG replacement should have required a license amendment. The petitioner also expressed concerns (1) related to the inspection of the replacement SGs and (2) regarding the effects of the extended power uprate (EPU) on SG tube inservice inspection and flow-induced effects on the SG internals.

The Commission, by a memorandum and order (CLI-14-04) dated April 1, 2014 (ADAMS Accession No. ML14091B118), denied SACE's request to stay the restart of SL-2 from the March 3, 2014, refueling outage. Subsequently, by a memorandum and order (CLI-14-11) dated December 19, 2014 (ADAMS Accession No. ML14353A114), the Commission denied SACE's hearing request, concluded that the NRC did not issue the licensee a de facto license amendment, and referred SACE's safety concerns regarding the replacement SGs at SL-2 to the NRC's Executive Director for Operations for disposition under 10 CFR 2.206, “Requests for action under this subpart.” Therefore, the staff treated these concerns in SACE's hearing request as a petition for enforcement action pursuant to 10 CFR 2.206. On February 24, 2015, (ADAMS Accession No. ML15057A221) and August 5, 2015 (ADAMS Accession No. ML15217A443), SACE informed the NRC staff by telephone that it had decided not to request a meeting with the NRC's Petition Review Board with regard to its 10 CFR 2.206 petition.

By letter dated September 28, 2015 (ADAMS Accession No. ML15205A313), the NRC acknowledged receipt of SACE's 10 CFR 2.206 petition and notified SACE of the NRC's acceptance of a portion of the petition (i.e., one of SACE's safety concerns) for review in the 10 CFR 2.206 process. The portion of the petition that the NRC accepted for review under the 10 CFR 2.206 process addresses the licensee's application of 10 CFR 50.59 with respect to the change in a methodology for evaluating SGs, as described in the updated final safety analysis report (UFSAR). The letter also stated that the NRC staff was evaluating whether the licensee properly applied 10 CFR 50.59 when it changed the structural analysis codes as described in the UFSAR.

The staff's September 28, 2015, letter explained why the NRC did not accept the remaining portion of the petition for review under the 10 CFR 2.206 process. This portion of the petition raised safety concerns related to (1) inspection of the replacement SGs and (2) the effects of the EPU on SG tube inservice inspection and flow-induced effects on the SG internals. These concerns met the criteria for rejection in NRC Management Directive 8.11, “Review Process for 10 CFR 2.206 Petitions,” dated October 25, 2000 (ADAMS Accession No. ML041770328), because the concerns had already been reviewed, evaluated, and resolved by the NRC staff.

By letters to the petitioner and licensee dated May 24, 2016 (ADAMS Accession Nos. ML16055A311 and ML16055A330, respectively), the NRC issued the proposed director's decision (ADAMS Accession No. ML16055A284) for comment. The petitioner and the licensee were asked to provide comments within 15 days on any part of the proposed director's decision that was considered to be erroneous or any issues in the petition that were not addressed. The NRC staff did not receive any comments on the proposed director's decision.

The Director of the Office of Nuclear Reactor Regulation has denied the petitioner's requested enforcement actions against the licensee. The reasons for this decision are explained in director's decision DD-16-02 pursuant to 10 CFR 2.206 of the Commission's regulations.

The NRC will file a copy of the director's decision with the Secretary of the Commission for the Commission's review in accordance with 10 CFR 2.206. As provided by this regulation, the director's decision will constitute the final action of the Commission 25 days after the date of the decision unless the Commission, on its own motion, institutes a review of the director's decision in that time.

Rockville, Maryland, this 8th day of July 2016.
For the Nuclear Regulatory Commission.
William M. Dean,
Director, Office of Nuclear Reactor Regulation.

[FR Doc. 2016-16763 Filed 7-14-16; 8:45 am]

BILLING CODE 7590-01-P